DEPARTMENT OF STATE

22 CFR Parts 22 and 51

RIN 1400-AC22

[Public Notice 5643]

Card Format Passport; Changes to Passport Fee Schedule

AGENCY: Department of State.

ACTION: Proposed Rule; Extension of Comment Period.

SUMMARY: This document extends the comment period and provides an additional venue through which to make comments for the proposed regulation published in the Federal Register of Tuesday, October 17, 2006. The regulation relates to changes to the Department's Passport Fee Schedule, and defines the passport card.

DATES: The comment period for the proposed rule published at 71 FR 60928, October 17, 2006, is extended until January 7, 2007.

ADDRESSES: You may submit comments, identified by any of the following methods:

• Mail (paper, disk, or CD-ROM submissions): Comments by mail are to be addressed to the Office of Passport Policy, Planning and Advisory Services, Bureau of Consular Affairs, U.S. Department of State, 2100 Pennsylvania Ave. NW., Suite 300, Washington, DC 20037.

• Internet: Comments by Internet are to be sent to http://www.regulation.gov. This notice can also be viewed from this Internet address.

• Electronically: You may submit electronic comments to PassportCardComments@state.gov. Attachments must be in Microsoft Word.

Instructions: All submissions must include the agency name and docket number. All comments will be posted without change to http://www.regulation.gov, including any personal information sent with each comment.

FOR FURTHER INFORMATION CONTACT: Consuelo Pachon, Office of Passport Policy, Planning and Advisory Services, Bureau of Consular Affairs, 2100 Pennsylvania Avenue, NW., Suite 3000, Washington, DC, telephone number 202-663-2431.

SUPPLEMENTARY INFORMATION: The comment period is being extended from December 18, 2006, to January 7, 2007, to accommodate the submission of comments electronically on the www.regulations.gov Web site, or to PassportCardComments@state.gov, as well as via mail. This extension will provide an additional opportunity for public comment on this regulation. The e-mail address, PassportCardComments@state.gov, provides an additional venue through which to make comments, and will allow for public submission to the www.regulations.gov. Web site.

Dated: December 7, 2006.
Susan Bozinko,
Division Chief for Office of Legal Affairs and Law Enforcement Liaison, Department of State.

[FR Doc. E6-21219 Filed 12-12-06; 8:45 am]

BILLING CODE 4710-06-P